DEPARTMENT OF JUSTICE

Antitrust Division

Notice Pursuant to the National Cooperative Research and Production Act of 1993—Alliance for Sustainable Air Transportation, Inc

Notice is hereby given that, on May 29, 2008, pursuant to Section 6(a) of the National Cooperative Research and Production Act of 1993, 15 U.S.C. 4301 et seq. (“the Act”), Alliance for Sustainable Air Transportation, Inc. (“the Joint Venture”) has filed written notifications simultaneously with the Attorney General and the Federal Trade Commission disclosing changes in its membership. The notifications were filed for the purpose of extending the Act's provisions limiting the recovery of antitrust plaintiffs to actual damages under specified circumstances. Specifically, ACS International LLC, Overland Park, KS; Selex Sistemi Integrati, Inc., Overland Park, KS; and University of Central Florida, Orlando, FL have been added as parties to this venture.

No other changes have been made in either the membership or planned activity of the group research project. Membership in this group research project remains open, and the Joint Venture intends to file additional written notifications disclosing all changes in membership.

On March 14, 2008, the Joint Venture filed its original notification pursuant to Section 6(a) of the Act. The Department of Justice published a notice in the Federal Register pursuant to Section 6(b) of the Act on April 28, 2008 (73 FR 22974).

Patricia A. Brink,
Deputy Director of Operations, Antitrust Division.

[FR Doc. E8-16442 Filed 7-18-08; 8:45 am]

BILLING CODE 4410-11-M